DEPARTMENT OF COMMERCE

National Oceanic and Atmospheric Administration

50 CFR Part 665

RIN 0648-AW66

Western Pacific Pelagic Fisheries; Purse Seine Prohibited Areas Around American Samoa

AGENCY: National Marine Fisheries Service (NMFS), National Oceanic and Atmospheric Administration (NOAA), Commerce.

ACTION: Notice of availability of fishery ecosystem plan amendment; request for comments.

SUMMARY: NMFS announces that the Western Pacific Fishery Management Council (Council) proposes to amend the Fishery Ecosystem Plan for Pelagic Fisheries of the Western Pacific Region (FEP). If approved by the Secretary of Commerce, Amendment 3 would prohibit purse seine fishing in the U.S. Exclusive Economic Zone (EEZ) within 75 nautical miles (nm) of shore around American Samoa. The proposed action is intended to reduce catch competition between purse seine vessels and local trolling and longline fleets due to possible localized stock depletion by purse seine fishing, and to minimize gear conflicts between the local longline fleet and domestic purse seine vessels.

DATES: Comments on Amendment 3, including an environmental assessment, must be received by June 6, 2011.

ADDRESSES: Copies of Amendment 3, including an environmental assessment, are available from http://www.regulations.gov, or the Council, 1164 Bishop St., Suite 1400, Honolulu, HI 96813, tel 808-522-8220, fax 808-522-8226, http://www.wpcouncil.org. Comments on the amendment, including the environmental assessment, identified by 0648-AW66, may be sent to either of the following addresses:

• Electronic Submission: Submit all electronic public comments via the Federal e-Rulemaking Portal http://www.regulations.gov; or

• Mail: Mail written comments to Michael D. Tosatto, Regional Administrator, NMFS, Pacific Islands Region (PIR), 1601 Kapiolani Blvd., Suite 1110, Honolulu, HI 96814-4700.

Instructions: Comments must be submitted to one of the above two addresses to ensure that the comments are received, documented, and considered by NMFS. Comments sent to any other address or individual, or received after the end of the comment period, may not be considered. All comments received are a part of the public record and will generally be posted to http://www.regulations.gov without change. All personal identifying information (e.g., name, address, etc.) submitted voluntarily by the commenter may be publicly accessible. Do not submit confidential business information, or otherwise sensitive or protected information. NMFS will accept anonymous comments (enter “N/A” in the required name and organization fields if you wish to remain anonymous). Attachments to electronic comments will be accepted in Microsoft Word or Excel, WordPerfect, or Adobe PDF file formats only.

FOR FURTHER INFORMATION CONTACT: Adam Bailey, NMFS PIR Sustainable Fisheries Division, 808-944-2248.

SUPPLEMENTARY INFORMATION: Pelagic fisheries in the U.S. western Pacific are managed under the FEP, developed by the Council, and approved and implemented by NMFS. The Council submitted Amendment 3 to NMFS for review under the Magnuson-Stevens Fishery Conservation and Management Act (Magnuson-Stevens Act). The Council prepared Amendment 3 to address pelagic fishing concerns in American Samoa. Local, pelagic trolling vessels target skipjack and yellowfin tuna in the EEZ around American Samoa. These vessels are usually small and incapable of safely traveling long distances from shore or holding large quantities of fish and are, therefore, limited to day trips in nearshore areas (less than 50 nm (93 km)) from shore.

Local pelagic longline vessels target albacore tuna and retain non-target skipjack. Small longline vessels (less than 50 ft) are limited to fishing within 50 nm (93 km) of shore and large longline vessels (50 ft and longer) can travel throughout the EEZ around American Samoa, and beyond, to fish. Longline gear is deployed in the morning, left to fish, and brought back on board starting in the late afternoon extending into the early morning of the next day. The length of mainline averages 40 nm (74 km), is deployed horizontally with floats at the surface, and drifts with the current. Individual vessels usually set one line per day.

Purse seine vessels also target skipjack tuna, but are much larger, and more sophisticated and efficient. Fish aggregating devices (FADs), either natural or man-made, are deployed to drift around the ocean, until sufficient quantities of fish are accumulated to them. Purse seines are then deployed near or around FADs. Conditions for purse seine fishing in the EEZ around American Samoa are less favorable than other areas, and most domestic purse seine fishing is conducted outside the EEZ, to the north and northwest. There are 11 vessels in the U.S. purse seine fleet with an endorsement to fish within the U.S. EEZ. The average skipjack tuna catch per set is approximately 2.4 mt (5,308 lb).

The Council is concerned about possible impacts on other pelagic fisheries if U.S. purse seine vessels were to increase activity in the EEZ around American Samoa near areas fished by troll and pelagic longline vessels. Localized fish depletion can occur when a stock in a small area is reduced by the removal of large amounts of fish, thereby temporarily depleting the availability of the stock to fishing activity or other predators in that area. Research suggests localized depletion may occur when large scale fishing operations, such as purse seine, competes with small-scale fishing operations, triggering catch competition for a single resource in a limited area. Reductions in fish density and catch rate could cause small vessels to travel farther to maintain catch rates, resulting in lost revenue due to increased expenses and possible safety-at-sea issues if vessels fish farther from port and for longer durations. Amendment 3 could also reduce gear conflicts by separating purse seine operations from trolling longline activity closer to shore. All other measures currently applicable to the purse seine fishery, including large vessel prohibited areas of 50 nm, would remain unchanged.

Comments on Amendment 3 must be received by June 6, 2011 to be considered by NMFS in the decision to approve, partially approve, or disapprove the amendment. NMFS soon expects to publish and request public comment on a proposed rule that would implement the measures recommended in Amendment 3.

Authority: 16 U.S.C. 1801 et seq.

Dated: April 1, 2011.
Emily H. Menashes,
Acting Director, Office of Sustainable Fisheries, National Marine Fisheries Service.

[FR Doc. 2011-8212 Filed 4-5-11; 8:45 am]

BILLING CODE 3510-22-P